DEPARTMENT OF ENERGY

Federal Energy Regulatory Commission

Combined Notice of Filings #1

January 22, 2009.

Take notice that the Commission received the following electric rate filings:

Docket Numbers: ER98-4109-003; ER03-394-005; ER03-427-005; ER99-3426-008; ER07-265-006; ER08-100-006; ER05-440-003; ER03-175-007.

Applicants: El Dorado Energy, LLC; Elk Hills Power, LLC; Mesquite Power, LLC; San Diego Gas & Electric Company; Sempra Energy Solutions LLC; Sempra Energy Trading LLC; Sempra Generation; Termoelectrica U.S., LLC.

Description: El Dorado Energy, LLC et al. submits an Amendment to Notice of Change in Status filed on 11/4/08.

Filed Date: 01/15/2009.

Accession Number: 20090121-0070.

Comment Date: 5 p.m. Eastern Time on Wednesday, January 28, 2009.

Docket Numbers: ER01-596-007; ER01-560-013; ER01-2690-011; ER02-963-011; ER01-2641-013; ER02-2509-008; ER05-524-001; ER03-720-011; ER02-77-001; ER02-553-012; ER00-840-010; ER01-137-008; ER98-1767-005; ER99-2992-009; ER94-389-031; ER02-1942-009; ER09-43-001; ER00-1780-009; ER01-557-013; ER01-559-013; ER99-3165-010.

Applicants: Alabama Electric Marketing, LLC; Big Sandy Peaker Plant, LLC; California Electric Marketing, LLC; Crete Energy Venture, LLC; High Desert Power Project, LLC; Kiowa Power Partners, LLC; Lincoln Generating Facility, LLC; New Covert Generating Company, LLC; New Mexico Electric Marketing, LLC; Rolling Hills Generating, L.L.C.; Tenaska Alabama Partners, L.P.; Tenaska Alabama II Partners, L.P.; Tenaska Frontier Partners, Ltd.; Tenaska Gateway Partners, Ltd.; Tenaska Power Services Co.; Tenaska Virginia Partners, L.P.; Tenaska Washington Partners, L.P.; Texas Electric Marketing, LLC; University Park Energy, LLC; Wolf Hills Energy, LLC; Tenaska Georgia Partners, L.P.

Description: Notification of Change in Status of Alabama Electric Marketing, LLC, et al.

Filed Date: 01/21/2009.

Accession Number: 20090121-4002.

Comment Date: 5 p.m. Eastern Time on Wednesday, February 11, 2009.

Docket Numbers: ER04-817-004; ER07-426-002; ER06-1257-002; ER03-1085-006; ER05-1398-003; ER00-891-004.

Applicants: Covanta Maine, LLC; Covanta Delaware Valley, LP; Covanta Essex Company; Covanta Union Inc.; Covanta Niagara, LP; Covanta Delano, Inc.

Description: Covanta Maine, LLC, et al. submits Notification of Non-Material Change in Status.

Filed Date: 01/21/2009.

Accession Number: 20090121-5227.

Comment Date: 5 p.m. Eastern Time on Wednesday, February 11, 2009.

Docket Numbers: ER08-54-009.

Applicants: ISO New England Inc.

Description: Central Maine Power Company submits an Errata Notice to correct a tariff sheet filed on 11/26/08 to comply with the directives in the Commission's 10/27/08 Order.

Filed Date: 01/15/2009.

Accession Number: 20090121-0096.

Comment Date: 5 p.m. Eastern Time on Thursday, February 5, 2009.

Docket Numbers: ER09-250-001.

Applicants: Florida Power Corporation.

Description: Florida Power Corporation et al. submits its compliance filing.

Filed Date: 01/09/2009.

Accession Number: 20090112-0205.

Comment Date: 5 p.m. Eastern Time on Friday, January 30, 2009.

Docket Numbers: ER09-440-001.

Applicants: Madison Paper Industries.

Description: Madison Paper Industries submits a revised Application for Market Based Rate Authorization.

Filed Date: 01/15/2009.

Accession Number: 20090121-0097.

Comment Date: 5 p.m. Eastern Time on Thursday, February 5, 2009.

Docket Numbers: ER09-543-000.

Applicants: Pacific Gas and Electric Company.

Description: Pacific Gas and Electric Company's Notice of Termination for the Agreement for the Operation and Maintenance of the Communication and Data Collection Equipment for the Department of Water Resources Control Agreement etc.

Filed Date: 01/15/2009.

Accession Number: 20090121-0104.

Comment Date: 5 p.m. Eastern Time on Thursday, February 5, 2009.

Docket Numbers: ER09-544-000.

Applicants: FPL Energy Power Marketing, LLC.

Description: FPL Energy Power Marketing, LLC submits Notice of Succession to notify the Commission of a corporate name change, and revisions to PMI's market based rate tariff to reflect the name change.

Filed Date: 01/14/2009.

Accession Number: 20090121-0103.

Comment Date: 5 p.m. Eastern Time on Wednesday, February 4, 2009.

Docket Numbers: ER09-545-000.

Applicants: Virginia Electric & Power Company.

Description: Virginia Electric and Power Company submits the 2009 Formula Rate Annual Update in accordance with Section 1 of Attachment H-16B in the Open Access Transmission Tariff etc.

Filed Date: 01/15/2009.

Accession Number: 20090121-0108.

Comment Date: 5 p.m. Eastern Time on Thursday, February 5, 2009.

Docket Numbers: ER09-546-000.

Applicants: Delmarva Power & Light Company.

Description: Delmarva Power & Light Company submits an Interconnection and Mutual Operating Agreement with Municipal Services Commission et al.

Filed Date: 01/15/2009.

Accession Number: 20090121-0107.

Comment Date: 5 p.m. Eastern Time on Thursday, February 5, 2009.

Docket Numbers: ER09-547-000.

Applicants: ISO New England Inc. and New England Power Pool.

Description: ISO New England, Inc et al. submits 4th Revised Sheet 8003 et al. to FERC Electric Tariff relating to the allocation of Net Commitment Period Compensation costs associated with Day Ahead cleared External Transactions.

Filed Date: 01/15/2009.

Accession Number: 20090121-0106.

Comment Date: 5 p.m. Eastern Time on Thursday, February 5, 2009.

Docket Numbers: ER09-548-000.

Applicants: ITC Great Plains, LLC.

Description: ITC Great Plains, LLC CD's submittal request for acceptance of a formula rate establish a revenue requirement for transmission service over facilities that ITC Great Plains will own in the SPP region.

Filed Date: 01/15/2009.

Accession Number: 20090115-4009.

Comment Date: 5 p.m. Eastern Time on Thursday, February 5, 2009.

Take notice that the Commission received the following open access transmission tariff filings:

Docket Numbers: OA08-52-004.

Applicants: New York Independent System Operator, Inc.

Description: New York Independent System Operator, Inc and the New York Transmission Owners submit revisions to Attachment Y of their Open Access Transmission Tariff pursuant to the Commission's 10/16/08 Order.

Filed Date: 01/14/2009.

Accession Number: 20090116-0098.

Comment Date: 5 p.m. Eastern Time on Wednesday, February 4, 2009.

Docket Numbers: OA09-17-000.

Applicants: California Independent System Operator Corporation.

Description: First Revised Sheet No. 1424 et al., FERC Electric Tariff, Fourth Replacement Volume No. 11 Effective March 31, 2009.

Filed Date: 01/15/2009.

Accession Number: 20090121-0105.

Comment Date: 5 p.m. Eastern Time on Thursday, February 5, 2009.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov. or call (866) 208-3676 (toll free). For TTY, call (202) 502-8659.

Nathaniel J. Davis, Sr.,
Deputy Secretary.

[FR Doc. E9-2149 Filed 1-30-09; 8:45 am]

BILLING CODE 6717-01-P